NUCLEAR REGULATORY COMMISSION

[Docket No. 50-213]

Connecticut Yankee Atomic Power Company, et al. (Haddam Neck Plant); Notice of Closure of the Public Comment Period for the Haddam Neck Plant License Termination Plan

The Nuclear Regulatory Commission (NRC) is in receipt of and has made available for public inspection and comment the License Termination Plan (LTP) for the Haddam Neck Plant (HNP) located in Haddam, Connecticut. NRC's receipt of the HNP LTP and the LTP's availability for public inspection and comment was noticed in the Federal Register on August 23, 2000 (65 FR 51345). A public meeting was conducted by NRC staff (65 FR 59215, dated October 4, 2000), to discuss the HNP LTP on October 17, 2000, at the Haddam-Killingworth High School, Higganum, Connecticut. The purpose of this notice is to announce that the public comment period for the HNP LTP will close on December 29, 2000.

Connecticut Yankee Atomic Power Company (CYAPCO, or the licensee) announced permanent cessation of power operations of HNP on December 5, 1996. In accordance with NRC regulations, CYAPCO submitted a Post-Shutdown Decommissioning Activities Report (PSDAR) for HNP to the NRC on August 22, 1997. The facility is undergoing active decontamination and dismantlement.

In accordance with 10 CFR 50.82(a)(9), all power reactor licensees must submit an application for termination of their license. The application for license termination must be accompanied or preceded by an LTP to be submitted for NRC approval. If found acceptable by the NRC staff, the LTP is approved by license amendment, subject to such conditions and limitations as the NRC staff deems appropriate and necessary. CYAPCO submitted the proposed LTP for HNP by application dated July 7, 2000. In accordance with 10 CFR 20.1405 and 10 CFR 50.82(a)(9)(iii), the NRC provided notice to individuals in the vicinity of the site that the NRC was in receipt of the HNP LTP and would accept comments from affected parties (65 FR 51345, dated August 23, 2000).

The NRC staff has begun the technical review of the HNP LTP. While NRC will accept public comments at any time, comments are most helpful and the staff is best able to consider them during the LTP review, if they are received early in the review process. Therefore, NRC has decided to close the formal public comment period on December 29, 2000. The HNP LTP (ADAMS Accession Number ML003735143) may be examined, and/or copied for a fee, at the NRC's Public Document Room, located at One White Flint North, 11555 Rockville Pike (first floor), Rockville, Maryland, and is accessible electronically from the ADAMS Public Library component on the NRC Web site, http://www.nrc.gov (the Public Electronic Reading Room). The LTP may also be viewed at the CYAPCO Web site at http://www.connyankee.com.

For further information, contact: Mr. Louis L. Wheeler by mail, Mail Stop O-7-C2, Project Directorate IV & Decommissioning, Division of Licensing Project Management, Office of Nuclear Reactor Regulation, U.S. Nuclear Regulatory Commission, Washington, D.C. 20555-0001; telephone 301-415-1444; or e-mail dxw@nrc.gov.

For the Nuclear Regulatory Commission.
Dated at Rockville, Maryland, this 5th day of December 2000.
Richard F. Dudley,
Acting Chief, Decommissioning Section, Project Directorate IV and Decommissioning Division of Licensing Project Management, Office of Nuclear Reactor Regulation.

[FR Doc. 00-31396 Filed 12-11-00; 8:45 am]

BILLING CODE 7590-01-P